DEPARTMENT OF HEALTH AND HUMAN SERVICES

Centers for Disease Control and Prevention

[Docket No. CDC-2017-0072, NIOSH-300]

Draft—National Occupational Research Agenda for Manufacturing

AGENCY: National Institute for Occupational Safety and Health (NIOSH), Centers for Disease Control and Prevention (CDC), Department of Health and Human Services (HHS).

ACTION: Request for comments.

SUMMARY: As steward of the National Occupational Research Agenda (NORA), the National Institute for Occupational Safety and Health of the Centers for Disease Control and Prevention announces the availability of the draft National Occupational Research Agenda for Manufacturing for public comment. Written by the NORA Manufacturing Sector Council, the Agenda identifies the most important occupational safety and health research needs for the next decade, 2016-2026. A copy of the draft Agenda is available at http://www.regulations.gov (search Docket Number CDC-2017-0072).

DATES: Electronic or written comments must be received by October 23, 2017.

ADDRESSES: You may submit comments, identified by Docket No. CDC-2017-0072 and docket number NIOSH-300, by any of the following methods:

• Federal eRulemaking Portal: http://www.regulations.gov. Follow the instructions for submitting comments.

• Mail: National Institute for Occupational Safety and Health, NIOSH Docket Office, 1090 Tusculum Avenue, MS C-34, Cincinnati, Ohio 45226-1998.

Instructions: All submissions received must include the agency name and Docket Number [CDC-2017-0072; NIOSH-300]. All relevant comments received will be posted without change to http://www.regulations.gov, including any personal information provided. For access to the docket to read background documents or comments received, go to http://www.regulations.gov.

FOR FURTHER INFORMATION CONTACT: Emily Novicki (NORACoordinator@cdc.gov), National Institute for Occupational Safety and Health, Centers for Disease Control and Prevention, Mailstop E-20, 1600 Clifton Road NE., Atlanta, GA 30329.

SUPPLEMENTARY INFORMATION: The National Occupational Research Agenda (NORA) is a partnership program created to stimulate innovative research and improved workplace practices. The national agenda is developed and implemented through the NORA sector and cross-sector councils. Each council develops and maintains an agenda for its sector or cross-sector.

The National Occupational Research Agenda for Manufacturing is intended to identify the research, information, and actions most urgently needed to prevent occupational injuries and illnesses in the manufacturing sector. The National Occupational Research Agenda for Manufacturing provides a vehicle for industry stakeholders to describe the most relevant issues, gaps, and safety and health needs for the sector. Each NORA research agenda is meant to guide or promote high priority research efforts on a national level, conducted by various entities, including: Government, higher education, and the private sector. The first National Occupational Research Agenda for Manufacturing was published in 2010 for the second decade of NORA (2006-2016). This draft is an updated agenda for the third decade of NORA (2016-2026). The revised agenda was developed considering new information about injuries and illnesses, the state of the science, and the probability that new information and approaches will make a difference.

As the steward of the NORA process, NIOSH invites comments on the draft National Occupational Research Agenda for Manufacturing. A copy of the draft Agenda is available at http://www.regulations.gov (see Docket Number CDC-2017-0072, NIOSH-300).

Dated: August 17, 2017.
Frank Hearl,
Chief of Staff, National Institute for Occupational Safety and Health, Centers for Disease Control and Prevention.

[FR Doc. 2017-17786 Filed 8-22-17; 8:45 am]

BILLING CODE 4163-18-P